ENVIRONMENTAL PROTECTION AGENCY

[EPA-HQ-OPP-2008-0525; FRL-8379-4]

Carbaryl; Notice of Receipt of Requests to Voluntarily Cancel or to Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by various registrants to voluntarily amend their registrations to terminate uses of certain products containing carbaryl, or to eliminate certain application methods for carbaryl products. The requests would terminate carbaryl use in or on wheat, millet, cotton, and fresh/succulent shelled beans and peas (crop subgroup 6B); preplant drench or dip treatments of seedlings or seed pieces; use on poultry or in or on poultry premises/dwellings; all use on pets (dogs, cats and other pets) except for flea collars, use on pet premises, use in or on pet sleeping quarters; and all indoor applications. These requests would also terminate the use of dust formulations in or on agricultural crops, application of granular formulations to leafy vegetables (except Brassica), ultra-low volume (ULV) applications for adult mosquito control, and all applications by backpack sprayers. Last, the requests would terminate broadcast application of liquid formulations of carbaryl to residential lawns. The requests would not terminate the last carbaryl products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before September 19, 2008.

ADDRESSES: Submit your comments, identified by docket identification (ID) number EPA-HQ-OPP-2008-0525, by one of the following methods:

• Federal eRulemaking Portal: http://www.regulations.gov. Follow the on-line instructions for submitting comments.

• Mail: Office of Pesticide Programs (OPP) Regulatory Public Docket (7502P), U.S. Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2008-0525. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Christina Scheltema, Special Review and Reregistration Division (7508P), Office of Pesticide Programs, U.S. Environmental Protection Agency, 1200 Pennsylvania Ave., NW., Washington, DC 20460-0001; telephone number: (703) 308-2201; fax number: (703) 308-8005; e-mail address: scheltema.christina@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and to Amend Registrations to Terminate Uses

This notice announces receipt by EPA of requests from several registrants, listed in Table 2 of Unit III. to amend several carbaryl product registrations to terminate certain uses and eliminate certain application methods. Carbaryl is a broad-spectrum insecticide used on a variety of food and feed crops, ornamentals, turf, pasture, and rangeland. In letters dated from July 22 to August 4, 2008, registrants of carbaryl products requested EPA to amend the product registrations identified in Table 1 of this notice to terminate certain uses and eliminate certain application methods. Specifically, these registrants are no longer supporting carbaryl use in or on wheat, millet, cotton, and fresh/succulent shelled beans and peas (crop subgroup 6B); preplant drench or dip treatments of seedlings or seed pieces; use on poultry or in or on poultry premises/dwellings; all use on pets (dogs, cats and other pets) except for flea collars, use on pet premises, use in or on pet sleeping quarters; and all indoor applications. Registrants are no longer supporting the use of dust formulations in or on agricultural crops, application of granular formulations to leafy vegetables (except Brassica), ultra-low volume (ULV) applications for adult mosquito control, and all applications by backpack sprayers. Last, Bayer CropScience is requesting termination of the broadcast application of liquid carbaryl products to residential lawns. (This use has previously been removed from all technical and manufacturing use product labels.) The complete lists of affected registrations and registrants are identified in Tables 1 and 2, respectively. EPA's action on these requests will not terminate the last carbaryl products registered in the United States, or the last pesticide products registered in the United States for these uses.

III. What Action is the Agency Taking?

This notice announces receipt by EPA of requests from various registrants to amend certain carbaryl product registrations to terminate various uses. The affected products, uses, and the registrants making the requests are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

All of the carbaryl registrants listed in Table 2 have requested that EPA waive the 180-day comment period. EPA will provide a 30-day comment period on the proposed requests.

Unless a request is withdrawn by the registrant within 30 days of publication of this notice, or if the Agency determines that there are substantive comments that warrant further review of this request, an order will be issued canceling or amending the affected registrations.

Table 1.—Carbaryl Product Registrations with Pending Requests for Amendments
Registration Number | Product Name | Uses Being Terminated and/or Application Methods Being Eliminated
239-1349 | Ortho Sevin 5 Dust | Poultry and poultry premises; domestic pets and premises
239-2181 | Ortho Sevin Garden Dust | Domestic pets and premises; succulent/fresh beans and peas (subgroup 6B)
239-2514 | Get-A-Bug Snail, Slug and Insect Killer | Succulent/fresh beans and peas (subgroup 6B); leafy vegetables (except Brassica vegetables)
239-2628 | Ortho Sevin Liquid Brand Carbaryl Insecticide Formula II | Succulent/fresh beans and peas (subgroup 6B); poultry and poultry premises
264-315 | Sevin® Brand 85 Sprayable Carbaryl Insecticide | Pea and bean, succulent shelled (subgroup 6B); millet; wheat; preplant root dip for sweet potato; preplant root dip/drench for nursery stock, vegetable transplants, bedding plants, and foliage plants; ULV application for adult mosquito control; outdoor pet sleeping quarters
264-316 | SEVIN® 80 Solupak | Pea and bean, succulent shelled (subgroup 6B); millet; wheat; preplant root dip for sweet potato; preplant root dip/drench for nursery stock, vegetable transplants, bedding plants, and foliage plants; ULV application for adult mosquito control; outdoor pet sleeping quarters
264-328 | Sevin Brand 80% Dust Base | Agricultural uses
264-333 | SEVIN® brand XLR PLUS Carbaryl Insecticide | Pea and bean, succulent shelled (subgroup 6B); millet; wheat; preplant root dip for sweet potato; preplant root dip/drench for nursery stock, vegetable transplants, bedding plants, and foliage plants; ULV application for adult mosquito control; outdoor pet sleeping quarters
264-334 | SEVIN® brand RP2 Carbaryl Insecticide | Pea and bean, succulent shelled (subgroup 6B); preplant root dip for sweet potato; outdoor pet sleeping quarters; liquid broadcast use for residential lawns
264-335 | SEVIN® brand RP4 Carbaryl Insecticide | Pea and bean, succulent shelled (subgroup 6B); millet; wheat; preplant root dip for sweet potato; preplant root dip/drench for nursery stock, vegetable transplants, bedding plants, and foliage plants; ULV application for adult mosquito control; outdoor pet sleeping quarters; liquid broadcast use for residential lawns
264-349 | SEVIN® brand 4F Carbaryl Insecticide | Pea and bean, succulent shelled (subgroup 6B); millet; wheat; preplant root dip for sweet potato; preplant root dip/drench for nursery stock, vegetable transplants, bedding plants, and foliage plants; ULV application for adult mosquito control; outdoor pet sleeping quarters
264-429 | SEVIN® brand Granular Carbaryl Insecticide | Leafy vegetables (except Brassica)
264-526 | SEVIN® brand 80 WSP Carbaryl Insecticide | Pea and bean, succulent shelled (subgroup 6B); millet; wheat; preplant root dip for sweet potato; preplant root dip/drench for nursery stock, vegetable transplants, bedding plants, and foliage plants; ULV application for adult mosquito control; outdoor pet sleeping quarters
432-885 | SEVIN® Brand Granular Carbaryl Insecticide | Leafy vegetables (except Brassica)
432-982 | SEVIN® Brand 97.5% Insecticide | Pea and bean, succulent shelled (subgroup 6B); preplant root dip/ drench treatment for nursery stock, vegetable transplants, bedding plants, and foliage plants
432-1211 | AES Carbaryl Insecticide Spray, RTU | Pea and bean, succulent shelled (subgroup 6B)
432-1212 | SEVIN® Grub Killer Granules | Leafy vegetables (except Brassica); pea and bean, succulent shelled (subgroup 6B)
432-1213 | SEVIN® Granules Ant, Flea, Tick, and Grub Killer | Leafy vegetables (except Brassica); pea and bean, succulent shelled (subgroup 6B)
432-1226 | SEVIN 40WSP Carbaryl Insecticide | Preplant root dip/drench for nursery stock, vegetable transplants, bedding plants, and foliage plants; outdoor pet sleeping quarters; liquid broadcast use on residential lawns
432-1227 | SEVIN SL Carbaryl Insecticide | Outdoor pet sleeping quarters; liquid broadcast use on residential lawns
432-1237 | BES Garden Dust 10% | Pea and bean, succulent shelled (subgroup 6B)
432-1238 | AES Carbaryl Insecticide Spray; RTU | Pea and bean, succulent shelled (subgroup 6B)
432-1239 | BES Garden Dust 5% | Bean succulent shelled
432-1244 | AES SEVIN® Granules Ant, Flea, Tick, and Grub Killer (1% Sevin) | Leafy vegetables (except Brassica)
829-128 | SA-50 Brand Sevin 5% Dust | Direct application to domestic pets or dwellings; Succulent/fresh peas and beans (subgroup 6B); all agricultural uses
829-285 | Cutworm and Cricket Bait | Succulent/fresh peas and beans (subgroup 6B); leafy vegetables (except Brassica vegetables)
2935-366 | Wilbur-Ellis Sevin 5 Bait | Wheat; peas and beans, succulent or fresh (subgroup 6B); leafy vegetables (except Brassica vegetables)
7401-38 | Ferti-Lome Liquid Sevin Home Garden Spray | Pea and bean, succulent (fresh) shelled (subgroup 6B)
7401-69 | Ferti-Lome Garden Dust | Pea and bean, succulent (fresh) shelled (subgroup 6B); direct applications to domestic pets or pet premises (indoor or outdoor)
7401-166 | Hi-Yield 10% Carbaryl Garden Dust | Pea and bean, succulent (fresh) shelled (subgroup 6B); domestic pets or pet premises (indoor or outdoor)
8119-5 | Corry's Slug, Snail and Insect Killer | Leafy vegetables (except Brassica)
71096-15 | Bonide Snail, Slug, and Sowbug Bait | Succulent/fresh peas and beans (subgroup 6B); leafy vegetables (except Brassica)
9198-146 | The Andersons 8.0% Granular Carbaryl | Peas and beans, succulent or fresh (subgroup 6B); leafy vegetables (except Brassica)
11656-21 | Coastox Carbaryl Cutworm Bait | Peas and beans, succulent or fresh (subgroup 6B); leafy vegetables (except Brassica)
9198-223 | The Andersons Insect Killer Granules with 2.0% Carbaryl | Peas and beans, succulent or fresh (subgroup 6B); leafy vegetables (except Brassica)
19713-49 | Drexel Carbaryl 4L | Succulent beans and peas; preplant dip for sweet potato; wheat; millet; dip or drench treatment to nursery stock or transplants, etc; indoor uses; ULV mosquito adulticide; all applications using backpack sprayers
19713-50 | Drexel Carbaryl 80S | Succulent beans and peas; preplant root dip for sweet potato; wheat; millet; poultry or poultry premises; seedling dip/drench for nursery stock; pet premises; pet sleeping quarters; ULV mosquito adulticide; all applications using backpack sprayers
19713-53 | Drexel Carbaryl 10D | All agricultural uses; succulent beans and peas
19713-75 | Drexel Carbaryl Technical | Succulent beans and peas; proso millet
19713-89 | Carbaryl 2L | Succulent beans and peas; preplant dip for sweet potato; indoor applications; ULV mosquito adulticide; all applications using backpack sprayers
19713-212 | Carbaryl 10D | Dust for agricultural use; cotton; succulent beans; poultry; dogs; cats (household pets)
19713-213 | Carbaryl 5D | All agricultural uses; succulent beans and peas
19713-244 | Carbaryl 80 Dust Base | Succulent peas and beans, (subgroup 6B); wheat; millet; poultry; dogs and pets; all indoor uses (domestic dwellings, residential and commercial, barns); formulation into products for dip or drench treatments
19713-363 | Carbaryl 85 Sprayable | Succulent beans and peas; preplant dip for sweet potato; root dip or drench treatments; ULV mosquito adulticide; all applications using backpack sprayers
82200-1 | Turf and Garden Seven % Granular Carbaryl Insecticide | Leafy vegetables (except Brassica)

Table 2 of this unit includes the names and addresses of record for the registrants of the products listed in Table 1 of this unit.

Table 2.—Registrants Requesting Voluntary Cancellation and/or Amendments
EPA Company Number | Company Name and Address
239 | The Ortho Business Group, c/o The Scotts Company LLC P.O. Box 190 Marysville, Ohio 43040
264 | Bayer CropScience PO Box 12014 Research Triangle Park, NC 27709
432 | Bayer Environmental Science 2 TW Alexander Drive, PO Box 12014 Research Triangle Park, NC 27709
829 | Southern Agricultural Insecticides, Inc. P.O. Box 218 Palmetto, Florida 34220
2935 | Wilbur Ellis Company P.O. Box 1286 Fresno, California 93715
7401 | Voluntary Purchasing Groups, Inc. P.O. Box 460, 230 FM 87 Bonham, Texas 75418
8119 | Matson, LLC c/o Registrations by Design, Inc. 118 1/2 East Main Street, Ste. 1 Salem, Virginia 24153-3805
9198 | The Andersons Lawn Fertilizer Division, Inc. P.O. Box 119 Maumee, Ohio 43537
11656 | Western Farm Service 2787 W. Bullard Suite 105 Fresno, CA 93711
19713 | Drexel Chemical Company 1700 Channel Avenue Post Office Box 13327 Memphis, TN 38113-0327
71096 | Or-Cal, Inc. 17220 Westview Road Oswego, Oregon 97034
82200 | Viachem, LLC 9701 Fields Road, No. 2400 Gaithersburg, Maryland 20878

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Carbaryl

Registrants who choose to withdraw a request for cancellation must submit such withdrawal in writing to the person listed under FOR FURTHER INFORMATION CONTACT, postmarked before September 19, 2008. This written withdrawal of the request for cancellation will apply only to the applicable FIFRA section 6(f)(1) request listed in this notice. If the products have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

In any order issued in response to these requests for cancellation of product registrations and for amendments to terminate uses, the Agency proposes to include the following provisions for the treatment of any existing stocks of the products indentified or referenced in Tables 1 and 2 in Unit III. Provided that these stocks bear labels previously approved by EPA, registrants may sell and distribute existing stocks of the affected products for 18 months from the effective date of the Agency's termination order, with the exception of Scotts Ortho Business Group, who may sell and distribute existing stocks of EPA Registration Number 239-2514 in Table 2 of Unit III. for 24 months from the effective date of the Agency's termination order.

If the request for voluntary cancellation and/or use termination is granted as discussed in this unit, the Agency intends to issue a cancellation order that will allow persons other than the registrant to continue to sell and/or use existing stocks of canceled products until such stocks are exhausted, provided that such use is consistent with the terms of the previously approved labeling on, or that accompanied, the canceled product. The order will specifically prohibit any use of existing stocks that is not consistent with such previously approved labeling. EPA intends to publish the cancellation order in the Federal Register after the end of the 30-day comment period for this Notice.

List of Subjects

Environmental protection, Pesticides and pests, Carbaryl, SEVIN®.

Dated: August 12, 2008.
Steven Bradbury,
Director, Special Review and Reregistration Division, Office of Pesticide Programs.

[FR Doc. E8-19171 Filed 8-19-08; 8:45 am]

BILLING CODE 6560-50-S